DEPARTMENT OF THE TREASURY

Office of Foreign Assets Control

[Case IDs VENEZUELA-EO13850-15818, VENEZUELA-EO13850-15819]

Notice of OFAC Sanctions Actions

AGENCY: Office of Foreign Assets Control, Treasury.

ACTION: Notice.

SUMMARY: The Department of the Treasury's Office of Foreign Assets Control (OFAC) is: (1) Providing notice of the sectoral determination by the Secretary of the Treasury pursuant to Executive Order 13850 (“Blocking Property of Additional Persons Contributing to the Situation in Venezuela”), as amended (E.O. 13850); and (2) publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Actions

Sectoral Determination by the Secretary of the Treasury Pursuant to E.O. 13850

On March 22, 2019, the Secretary of the Treasury made the following determination:

Section 1(a) of E.O. 13850 of November 1, 2018 (“Blocking Property of Additional Persons Contributing to the Situation in Venezuela”) (E.O. 13850), as amended by Executive Order 13857 of January 25, 2019 (“Taking Additional Steps to Address the National Emergency With Respect to Venezuela”) (E.O. 13857), imposes economic sanctions on any person determined by the Secretary of the Treasury, in consultation with the Secretary of State, to operate in such sectors of the Venezuelan economy as may be determined, pursuant to section 1(a)(i) of E.O. 13850, by the Secretary of the Treasury, in consultation with the Secretary of State.

To further address the extraordinary threat to the national security and foreign policy of the United States described in E.O. 13850, as amended by E.O. 13857, and in consultation with the Secretary of State, I hereby determine that section 1(a)(i) shall apply to the financial sector of the Venezuelan economy. Any person I or my designee subsequently determine, in consultation with the Secretary of State, operates in this sector shall be subject to sanctions pursuant to section 1(a)(i).

Blocking of Property and Interests in Property Pursuant to E.O. 13850

On March 22, 2019, OFAC determined that the property and interests in property subject to U.S. jurisdiction of the following person are blocked under the relevant sanctions authority listed below.

Entities

1. BANCO DE DESARROLLO ECONOMICO Y SOCIAL DE VENEZUELA (a.k.a. BANCO BANDES; a.k.a. BANDES; f.k.a. FONDO DE INVERSIONES DE VENEZUELA), Av. Universidad, Esq. de Traposos a Colon, P-1, Torre BANDES, CARACAS, DISTRITO FEDERAL 1010, Venezuela; Edificio Fondo de Inversiones de Venezuela Avenida Norte 1, Esquina Colon a Traposos, Caracas, Venezuela; SWIFT/BIC FIVV VE CA; National ID No. G200047526 (Venezuela) [VENEZUELA-EO13850].

Designated pursuant to section 1(a)(i) of Executive Order 13850 (E.O. 13850) of November 1, 2018, “Blocking Property of Additional Persons Contributing to the Situation in Venezuela,” as amended by Executive Order 13857 (E.O. 13857) of January 25, 2019, “Taking Additional Steps to Address the National Emergency with Respect to Venezuela,” for operating in the financial sector of the Venezuelan economy.

2. BANCO BANDES URUGUAY S.A. (a.k.a. BANDES URUGUAY), Zabala 1338, Montevideo 11000, Uruguay; SWIFT/BIC CFACUYMM; National ID No. 215395820015 (Uruguay) [VENEZUELA-EO13850] (Linked To: BANCO DE DESARROLLO ECONOMICO Y SOCIAL DE VENEZUELA).

Designated pursuant to section 1(a)(iv) of E.O. 13850, as amended by E.O. 13857, for being owned or controlled by, or having acted or purported to act for or on behalf of, directly or indirectly, BANCO DE DESARROLLO ECONOMICO Y SOCIAL DE VENEZUELA (BANDES).

3. BANCO BICENTENARIO DEL PUEBLO, DE LA CLASE OBRERA, MUJER Y COMUNAS, BANCO UNIVERSAL C.A. (f.k.a. BANCO BICENTENARIO BANCO UNIVERSAL C.A.; a.k.a. BANCO BICENTENARIO DEL PUEBLO; a.k.a. BANCO BICENTENARIO DEL PUEBLO, DE LA CLASE OBRERA, MUJER Y COMUNAS, BANCO UNIVERSAL CA), Av Venezuela, Torre Banco Bicentenario, P.P, El Rosal, Caracas, Distrito Capital, Venezuela; SWIFT/BIC COND VE CP; National ID No. G200091487 (Venezuela) [VENEZUELA-EO13850] (Linked To: BANCO DE DESARROLLO ECONOMICO Y SOCIAL DE VENEZUELA).

Designated pursuant to section 1(a)(iv) of E.O. 13850, as amended by E.O. 13857, for being owned or controlled by, or having acted or purported to act for or on behalf of, directly or indirectly, BANDES.

4. BANCO DE VENEZUELA SA BANCO UNIVERSAL (a.k.a. BANCO DE VENEZUELA; a.k.a. BANCO DE VENEZUELA SA, BANCO UNIVERSAL; f.k.a. BANCO DE VENEZUELA, S.A.; a.k.a. BANCO DE VENEZUELA, S.A.C.A.), Av Universidad Esq. de Sociedad, Torre Banco de Venezuela, Caracas, Distrito Federal, Venezuela; SWIFT/BIC VZLA VE CA; National ID No. G200099976 (Venezuela) [VENEZUELA-EO13850] (Linked To: BANCO DE DESARROLLO ECONOMICO Y SOCIAL DE VENEZUELA).

Designated pursuant to section 1(a)(iv) of E.O. 13850, as amended by E.O. 13857, for being owned or controlled by, or having acted or purported to act for or on behalf of, directly or indirectly, BANDES.

5. BANCO PRODEM SA (f.k.a. FONDO FINANCIERO PRIVADO PRODEM S.A.), Calle Belisario Salinas No 520, esquina, Sanchez Lima, La Paz, La Paz, Bolivia; SWIFT/BIC BPRM BO LP; Tax ID No. 1029837028 [VENEZUELA-EO13850] (Linked To: BANCO DE DESARROLLO ECONOMICO Y SOCIAL DE VENEZUELA).

Designated pursuant to section 1(a)(iv) of E.O. 13850, as amended by E.O. 13857, for being owned or controlled by, or having acted or purported to act for or on behalf of, directly or indirectly, BANDES.

Dated: May 15, 2019.
Andrea Gacki,
Director, Office of Foreign Assets Control.

[FR Doc. 2019-10492 Filed 5-20-19; 8:45 am]

BILLING CODE 4810-AL-P